NUCLEAR REGULATORY COMMISSION

[Docket No. 50-213]

Connecticut Yankee Atomic Power Company; Haddam Neck Plant; Environmental Assessment and Finding of No Significant Impact

The U.S. Nuclear Regulatory Commission (NRC) is considering issuance of an amendment to Facility Operating License No. DPR-61 issued to Connecticut Yankee Atomic Power Company (the licensee) for the Haddam Neck Plant, a permanently shutdown nuclear reactor facility located in Middlesex County, Connecticut. The new license condition is related to the licensee's proposed License Termination Plan (LTP) for the plant. Therefore, pursuant to Section 51.21 of Title 10 of the Code of Federal Regulations (10 CFR), the NRC is issuing this environmental assessment and finding of no significant impact.

Environmental Assessment

Identification of the Proposed Action

The proposed action would amend Facility Operating License No. DPR-61 to approve the LTP for the plant and add a new License Condition C.7 to the LTP for the plant. The proposed condition will require the licensee to implement and maintain in effect all provisions of the LTP that are approved by the NRC as part of the amendment. The proposed condition would also (1) provide criteria for the licensee to make changes to the LTP with prior NRC review and approval and (2) require the licensee to perform a capture zone analysis and to have assured that the groundwater contribution is included for all applicable survey areas. In accordance with the regulations, the licensee has, and will continue to have, the authority to remediate the site without an approved LTP, which is performed under the provisions of 10 CFR 50.82(a)(6) and 50.59. The proposed license amendment does not authorize additional plant activities beyond those that are already authorized and, therefore, is administrative.

The proposed action is in accordance with the licensee's application dated July 7, 2000, as supplemented by letters dated June 14, July 31, August 15, August 22, September 6, September 7, 2001, and August 20 and October 10, 2002. Calculations to support the LTP were also provided by the licensee in the letters dated January 11, 2001, and May 9, June 26, and August 15, 2002.

Consistent with the decommissioning rule that appeared in the Federal Register notice dated July 29, 1996 (Vol. 61, No. 146, pp. 39283-39284), the NRC has also prepared this environmental assessment (EA) to determine the adequacy of the radiation release criteria and the adequacy of the final status survey presented in the LTP.

The Need for the Proposed Action

The proposed action would allow the licensee to meet the requirements of 10 CFR 50.82(a)(9), by which a licensee is required to submit an LTP to the NRC for approval. Further, in accordance with the requirements of 10 CFR 50.82(a)(10) and (11), the staff will: (1) Approve an LTP by license amendment if the remaining decommissioning activities will be performed in accordance with the regulations, will not be inimical to the common defense and security or the health and safety of the public, and will not have a significant effect on the quality of the environment; and (2) terminate the license if the remaining dismantlement has been performed in accordance with the approved LTP and if the final radiation survey and associated documents demonstrate the facility and site are suitable for release.

Environmental Impacts of the Proposed Action

Background

The nuclear steam supply for the HNP is a four-loop pressurized-water reactor (PWR) with a thermal power design limit of 1,825 MWt. The turbine generator was rated to produce 619 MWe. The HNP began commercial operation in January 1968 and was permanently shut down on December 4, 1996, after 28 years of operation. After the cessation of operations, the licensee began to decommission the HNP. The Post Shutdown Decommissioning Activities Report (PSDAR) was submitted to NRC in 1997. The licensee transmitted an Updated Final Safety Analysis Report (UFSAR) to NRC in 1998. The UFSAR reflects the HNP's permanent shutdown status. Later in 1998, NRC amended the HNP Facility Operating License to reflect the plant's shutdown condition. In 1999, the operating license was amended to reflect the decommissioning status of the plant and long-term storage of the spent fuel.

The LTP was submitted to NRC on July 7, 2000. The LTP was subsequently revised in response to NRC comments and resubmitted on August 20 and October 10, 2002. NRC regulations in 10 CFR 50.82 require that an LTP contain plans for site characterization, identification of remaining dismantlement activities, plans for site remediation, the licensee's plan for the final radiation survey, information on whether the site is being released for restricted or unrestricted use, an assurance that the licensee has adequate funds to complete decommissioning, and a supplement to the environmental report that describes any new information or significant environmental change associated with what the licensee provided in its PSDAR.

The licensee is proposing to decontaminate the site to meet the unrestricted release criteria (25 mrem/year and residual radioactivity as low as reasonably achievable) as found in 10 CFR 20.1402. The licensee plans to complete decommissioning activities by 2004. At the time of license termination, several buildings may remain on site. Debris from buildings that were demolished during decommissioning will have been sent to an appropriate offsite disposal facility. The spent fuel will eventually be removed from the spent fuel pool and placed in an Independent Spent Fuel Storage Installation (ISFSI).

Scope

NRC rule changes in 1996 (61 FR 39278) allow the licensee to perform major decommissioning activities after submittal of a PSDAR. The 1996 rule prohibits decommissioning activities that could result in significant environmental impacts that have not been previously analyzed. The impacts of decommissioning activities for nuclear power reactors have been assessed previously by NRC in the Generic Environmental Impact Statement (GEIS) for Decommissioning (Reference NRC, 1988, 2001) and are not reevaluated in the EA. The PSDAR is required to include a discussion of the reasons for concluding that the planned decommissioning activities are bounded by the GEIS and previous site-specific analyses.

At this time, the NRC is considering only approval of the licensee's LTP, not termination of the license. Approval of the LTP, as discussed in the Statements of Consideration that accompanied the Final Rule on Decommissioning Nuclear Power Reactors (61 FR 39284, July 29, 1996), requires the NRC to consider: (1) The licensee's plan for assuring sufficient funds will be available for final site release; (2) radiation release criteria for license termination; and (3) the adequacy of the final survey required to verify that these release criteria have been met. NRC has reviewed the decommissioning costs to ensure that adequate funds will be available for site decommissioning, and this review is documented in the safety evaluation report for the LTP amendment. Financial assurance is not analyzed in this EA since financial assurance methods would not result in any environmental impacts. The radiation release criteria and adequacy of the final status survey are addressed in this EA.

Additionally, the Commission has made a generic determination (10 CFR 51.23) that spent fuel generated in any reactor can be stored safely and without significant environmental impacts for at least 30 years beyond the licensed life for operation of the plant and that there is reasonable assurance that at least one mined geologic repository will be available within 30 years beyond the licensed life of operation to dispose of high level waste. Accordingly, no discussion of environmental impacts of spent fuel storage in HNP's storage pool or its projected ISFSI is provided in this EA.

Site Description and Current Site Environmental Conditions

The HNP is located on a site of about 2,124,608 square meters (525 acres) in the town of Haddam on the eastern bank of the Connecticut River in an area known as Haddam Neck. Haddam Neck is bounded by the Connecticut River and the Salmon River, which enters the Connecticut River just south of the plant site. The town of Haddam is in Middlesex County, Connecticut. The HNP is about 35.4 kilometers (22 miles) south-southeast of Hartford and 40.2 kilometers (25 miles) northeast of New Haven.

Land Use

About 80 percent of the area surrounding the site within a 8-kilometer (5-mile) radius is rural and wooded, with much of it occupied by State parks and forests. The remaining area is used for general farming and for small industrial-production facilities. The largest industrial complex in the vicinity, which employs about 3,000 workers, is located in Middletown, which is about 8.9 kilometers (5.5 miles) northwest of the site. Several other small industrial facilities are located within a 10-mile radius. The nearest agricultural farm is about 17 kilometers (10 miles) from the site. Two schools are located within 8 kilometers (5 miles), with a combined enrollment of about 600 students in 1995 (Reference CYAPCO, 1997).

Geology and Soil

As discussed in the Decommissioning Environmental Review dated August 1997 (Reference CYAPCO, 1997), the surficial deposits at the site are dominated by relatively thin and often discontinuous layers of glacial till overlying bedrock. This till is a poorly sorted mixture of clay, silt, sand, gravel, cobbles, and boulders. Sediments underlying the floodplain portion of the site vary from 3 to 30.5 meters (10 to 100 feet) thick. The uppermost portion of these sediments consists of thin [less than 6.1 meters (20 feet deep)] alluvial silts and sands deposited by the Connecticut River.

Before the plant was constructed, much of the overburden sediments were excavated to competent, unweathered bedrock. The area was filled and graded from an initial elevation of about 3.7 meters (12 feet) to an elevation of 6.4 meters (21 feet) above mean sea level (MSL). Site elevations range from about 3 to 6.1 meters (10 to 20 feet) MSL on the developed floodplain, and to approximately 91.4 meters (300 feet) MSL in undeveloped upland portions of the site.

Radiologically contaminated site soil is generally confined to surface soil, although survey results have indicated localized areas with deeper contamination. In the LTP, 20 radionuclides have been identified in site soil on the basis of survey data collected from 15 sample locations. These radionuclides include cesium, plutonium, americium, and cobalt.

Surface Water

All stream flow past the site is derived wholly from within the Connecticut River basin. Although tidal influence in the Connecticut River extends upstream to approximately Hartford, saline water extends only as far north as East Haddam, about 3.2 kilometers (2 miles) south of the plant. No drinking water intakes exist on the Connecticut River in the vicinity of the site; local water supply needs are provided by wells or tributary stream reservoirs.

Stream flow at the site is a combination of upstream basin discharge and tidal interchange. The average annual daily flow at Haddam Neck is approximately 481 cubic meters per second (cms) [17,000 cubic feet per second (cfs)]. Tidal flow at the site averages about 425 cms (15,000 cfs), but it may be as great as 623 cms (22,000 cfs). During periods of low river flow, tidal flows can be significant (Reference CYAPCO, 1997).

The HNP drew once-through cooling water from the Connecticut River through an intake structure at the edge of the river. The cooling water effluent was discharged into a canal that flows parallel to the river, with its outflow located approximately 1676 meters (5,500 feet) downstream of the intake. The plant's National Pollutant Discharge Elimination System permit will be in effect until the end of decommissioning. The permit imposes the limits for flow, temperature, and effluent chemistry. To date, no surface-water contamination attributable to the site has been observed.

Groundwater

At the site, groundwater is present in both unconsolidated sediments and in underlying fractured bedrock. In the LTP, the shallow groundwater is described as flowing toward the Connecticut River. Near the uplands, the generalized flow direction of groundwater is downward and toward the river; near the river, the generalized flow direction of the groundwater is upward toward the river. Groundwater flow in the bedrock is assumed to occur in the fractures. The direction of this flow can be complex because of the variability of the depth, orientation, and interconnectiveness of fractures; however, net flow in the bedrock is expected to be toward the river.

Groundwater beneath the HNP has been affected by boron, tritium, and strontium-90 releases. The boron and tritium contamination is attributed, in part, to leakage from the refueling water storage tank (RWST). A contaminated groundwater plume extends from the RWST south to wells adjacent to the Connecticut River. The locations of the core and bottom of the boron/tritium plume are not known. Groundwater concentrations of tritium as high as 5,137 Becquerels per liter (Bq/L) [138,700 picocuries per liter (pCi/L)] were reported from sampling events performed in 1999 (Reference Malcolm Pirnie, 1999). Since then, there has been a trend of decreasing tritium concentrations. The highest concentration reported from sampling conducted in June 2001 was 774 Bq/L (20,900 pCi/L) (Reference CYAPCO, 2001a). Groundwater in the deep water-bearing bedrock units is also monitored (Reference CYAPCO, 2002b). Tritium concentrations as high as 1,225 Bq/L (33,070 pCi/L) were reported for deeper segments of the fractured bedrock (Reference CYAPCO, 2001b). No plant-generated contamination has been found in any of the area drinking-water wells. However, strontium-90 has been found at a concentration of about 0.4 Bq/L (1 pCi/L) in water from the water-supply well on the peninsula adjacent to the discharge canal. Cesium-137 (76 pCi/L in 1999) and technetium-99 (3.9 pCi/L in 2001) have each been found in one monitoring well, both near the containment building.

Many private water-supply wells occur in the vicinity of the site (Reference CYAPCO, 1997). These wells, which pump water from deep water-bearing units in the bedrock, are located outside and upgradient of the facility. The nearest residential well is approximately 0.8 kilometer (0.5 mile) northwest, in the opposite direction of the groundwater plume traveling southwest of the RWST, of the HNP stack. The nearest community water supply well is approximately 4.8 kilometers (3 miles) from the site.

Additional groundwater characterization is being performed by the licensee to determine the nature and extent of potential groundwater contamination. This investigation is described in the plan titled “Phase 2 Hydrogeologic Investigation Work Plan,” which was approved by the State of Connecticut's Department of Environmental Protection on May 10, 2002 (Reference CYAPCO, 2002a). The plan's objectives are to study the distribution and migration of radionuclides within the plant industrial area, and to show whether any radiological substances of concern exist at the landfill, other property areas, or across the Connecticut River.

Groundwater samples from the landfill area wells were also analyzed for chemical parameters, consistent with State requirements for solid waste disposal areas. The samples were analyzed for various metals and for volatile organic compounds. No volatile organic compounds were found, and metals were either below detection limits or were detected at very low concentrations (Reference Malcolm Pirnie, 1999). The licensee will be conducting a site-wide characterization of hazardous constituents under the Federal Resource Conservation and Recovery Act Corrective Action program, and this environmental investigation will provide additional information regarding chemical parameters (Reference Rosenstein, 2002).

Ecological Resources

About 70 percent of the plant site's 2,124,604 square meters (525 acres) are forested. Dominant tree species include eastern hemlock, black oak, shagbark hickory, and sweet (black) birch (Reference CYAPCO, 1997). The remainder of the site contains wetlands and open areas. Wetlands include forested swamps, beaver ponds, and floodplain (riparian) areas. Open lands are mostly manmade, occurring within the transmission line rights-of-way and along roadways. These areas consist primarily of short, transitional vegetation. Only 28,328 square meters (7 acres) of the site were developed and occupied by buildings and associated parking lots. Approximately 36,422 square meters (9 acres) were modified to create the discharge canal. Transmission line rights-of-way associated with the HNP occupy about 3,986,170 square meters (985 acres) (Reference USAEC, 1973). Important habitats located within the plant site boundary include a freshwater tidal marsh and a bald eagle winter-roosting site (Reference McKay, 1997).

Common mammal species occurring at the site include white-tailed deer, woodchucks, eastern cottontails, red and gray squirrels, eastern chipmunks, raccoons, and Virginia opossums. Regularly encountered bird species include mourning doves, red-eyed vireos, red-winged blackbirds, black-capped chickadees, American robins, wood thrushes, common grackles, song sparrows, American goldfinches, and several species of warblers. Herring gulls, mallards, and great blue herons are common species within riparian areas. Salmon River Cove, which abuts the site, is a wintering area for waterfowl such as mallards, black ducks, and Canada geese. Common reptile and amphibian species include northern spring peepers, bullfrogs, red-spotted newts, eastern box turtles, eastern hognose snakes, and northern black racers (Reference CYAPCO, 1997).

The HNP is located at the estuary portion of the Connecticut River about 25.8 kilometers (16 miles) from the mouth of the river. Thus, freshwater, estuarine, and anadromous fish species occur in the plant area. Common fish species include channel catfish, striped bass, large-mouth bass, white catfish, white perch, yellow perch, spottail shiners, white suckers, American eels, carp, American shad, and several species of sunfish. The American shad is the most important commercial species in the area. Plant operations had no apparent effect on the shad population (Reference CYAPCO, 1997). Because of silt deposition in the plant area, the macroinvertebrate community is dominated by aquatic worms and chironomid (midge) larvae. Several expansive beds of submerged aquatic vegetation occur in the plant vicinity. A large bed occurs near Haddam Island State Park and Haddam Meadows State Park upstream of the plant, and several smaller beds occur just downstream of the plant in the vicinity of the discharge canal (Reference CYAPCO, 1997).

No Federally listed or proposed threatened or endangered species are known to occur in the area that will be affected by site activities (Reference Amaral, 2001). However, the endangered shortnose sturgeon makes seasonal movements through the Connecticut River estuary and thus passes by the site. The shortnose sturgeon is also State-listed as endangered. Three other State-listed species occur in the site area: Atlantic sturgeon (threatened); tidewater mucket (endangered); and swamp cottonwood (endangered). Six other species listed as of special concern in Connecticut occur in the site area: eastern box turtle; eastern pondmussel; golden club; woodland pondsnail; and two arrowleaf species (Reference McKay, 1997).

Historical and Cultural Resources

Known archaeological and historical resources within the HNP lands include the plant itself, archaeological sites containing Native American ceramics, and the Venture Smith site. The HNP is historically significant as one of four early demonstration reactors that used the PWR design. It was one of the earliest nuclear power plants constructed in the Northeast and was the world's leading reactor in nuclear power generation from 1980 to 1984. The HNP has been determined eligible for listing on the National Register of Historic Places (Reference Maddox, 1998). The Venture Smith site is an 18th century homestead of African American archaeological significance and has been identified as potentially eligible for listing on the National Register of Historic Places (Reference Maddox, 2001).

Visual and Scenic Resources

The HNP is adjacent to the Cove Meadow State Park, located on an undeveloped riverfront area at the confluence of the Salmon and Connecticut Rivers. Haddam Meadows State Park is located directly across from the HNP on the western bank of the Connecticut River. The plant can be viewed from the parking and boat-launching facilities at this park. Hurd State Park, Haddam Island State Park, and Cockaponset State Park are all within 4.8 kilometers (3 miles) of the HNP (Reference CYAPCO, 1997). The nearest Historic Landmark is the Goodspeed Opera House, which is located 4.8 kilometers (3 miles) downstream of the plant. The plant is not visible from this landmark because of a bend in the Connecticut River near the Salmon River confluence (Reference CYAPCO, 1997).

Radiological Impacts

After approval of the LTP and release of the site for unrestricted use, the only source of exposure to members of the public would be any residual radionuclide concentrations on the building surfaces, in the soil, and in the groundwater. Derived concentration guideline levels (DCGLs) were derived to ensure that exposure of the average member of the critical group to residual radioactivity within the various media will not exceed the dose limit of 0.25 Sieverts per year (Sv/yr) [25 milliroentgen-equivalent-man per year (mrem/yr)] as specified in 10 CFR Part 20, Subpart E. The impacts of radiological release criteria were analyzed in NRC's 1997 Generic Environmental Impact Statement (GEIS) in Support of Rulemaking on Radiological Criteria for License Termination of NRC-Licensed Nuclear Facilities (NUREG-1496). Because the residual radionuclides that are expected to remain on the building surfaces, in soil, and in groundwater will be less than the DCGLs, any doses incurred by a potential receptor will be less than the 0.25 Sv/yr (25 mrem/yr) dose limit.

The manner in which the DCGLs are derived for the HNP is documented in the LTP. NRC evaluated the adequacy of the DCGLs in providing protection for members of the public as the site is released for unrestricted use, as documented in the safety evaluation for the amendment that approves the LTP (Reference NRC, 2002).

In deriving the soil DCGLs, a resident-farmer was considered to represent the average member of the critical population group. The hypothetical resident farmer is assumed to build a house, draw water from a well, grow plant food and fodder, raise livestock, and catch fish for consumption from a pond within areas of the site with residual radioactivity in the soil and groundwater. The resident farmer scenario embodies the greatest number of exposure pathways and represents the longest exposure durations of any other scenario envisioned.

The DCGLs for buildings are obtained by selecting the more restrictive DCGLs (i.e., the lowest radionuclide concentrations) between two potential exposure scenarios. The first scenario is a building occupancy scenario that considers a light industrial worker working in a contaminated building. The second scenario considers a resident farmer who builds a house on the concrete debris generated from the demolition of the contaminated buildings. The light industrial worker is assumed to be the average member of the critical group for exposure to residual radioactivity remaining on the walls of standing structures at the site. The worker is assumed to spend time in the structure performing light industrial activities. Because exposure for the light industrial worker scenario does not consider exposure from any residual radioactivity that may be located below the wall surface (e.g., from activation within the containment building), a second scenario involving a resident farmer performing limited activities in the area of concrete debris was considered.

The DCGLs for the groundwater pathway are determined by assuming a well is pumping water that contains residual radioactivity and the water is used for drinking, crop irrigation, and livestock watering.

NRC evaluated the appropriateness of the exposure scenarios postulated and the methodology used for deriving the DCGLs. It has concluded that the potential radiation exposures caused by residual radionuclide concentrations have not been underestimated by the licensee and will not exceed the dose limit in 10 CFR Part 20, subpart E, for the general public. Additional details of the NRC's analysis of the DCGLs are available in the safety evaluation for the amendment which approves the LTP (Reference NRC, 2002).

The licensee will use a series of surveys and a final status survey to demonstrate compliance with Part 20, Subpart E, consistent with the Radiation Survey and Site Investigation process and the data quality objectives (DQO) process. Planning for the final status survey involves an iterative process that requires appropriate site classification (on the basis of the potential residual radionuclide concentration levels relative to the DCGLs) and formal planning using the DQO process. The licensee has committed to an integrated design process that will address the selection of appropriate survey and laboratory instrumentation and procedures, and that includes a statistically based measurement and sampling plan for collecting and evaluating the data needed for the final status survey. The NRC staff has determined that the integrated design process, sampling strategy, and survey data evaluation methodology presented in the LTP are adequate. Additional details of the NRC's analysis of the survey plan are available in the safety evaluation for the amendment which approves the LTP (Reference NRC, 2002).

If the licensee requests license termination in the future, it will submit a final status survey report, which will describe the residual contamination remaining on site. NRC would conduct a confirmatory study to determine whether the site meets the criteria for unrestricted release, and would also confirm that decommissioning activities were done in accordance with the LTP, prior to terminating the license.

As for groundwater, emptying the RWST has eliminated a major source of tritium contamination in the shallow groundwater system. With time, contaminant concentrations will decrease because of source removal and dilution and discharge to the Connecticut River. Groundwater levels at this site are complex and the effect of discontinuing groundwater pumping is not well understood. Tidal conditions in the Connecticut River probably affect water levels. The water levels and groundwater flow directions between the unconsolidated and fractured bedrock units are variable. The complexity of the stratigraphic units in this area also affects both the water levels and groundwater flow (Reference CYAPCO, 2002a).

Nonradiological Impacts

The scope of this EA is limited to adequacy of the DCGLs and adequacy of the final status survey described in the LTP. Therefore, there are not expected to be any adverse nonradiological impacts on the environmental resources described in Section 3.0.

NRC notes that the HNP has been determined eligible for the National Register of Historic Places, and decommissioning and dismantling of the plant are considered adverse effects on Connecticut's cultural heritage (Reference Maddox, 2001). Additionally, HNP lands have a high potential for containing significant prehistoric and historic archaeological resources. Archaeological resources that have been determined potentially eligible include the Venture Smith homestead and areas near the canal that have been found to contain Native American ceramics (Reference Maddox, 2001). The following summarizes the mitigation measures that the Connecticut Historical Commission (Reference Maddox, 2001) has recommended, in response to NRC's request for a consultation:

a. Documentation of the HNP to the professional standards of the National Park Service's Historic American Engineering Record;

b. Completion of a reconnaissance-level archaeological survey of all lands associated with the HNP; and

c. Consultation with the Thomas J. Dodd Research Center, at the University of Connecticut, concerning the archiving of pertinent documents, plans, and photographs of the HNP.

All three of these recommendations are being carried out by the licensee.

Cumulative Impacts

The NRC has evaluated whether cumulative environmental impacts could result from an incremental impact of the proposed action when added to other past, present, or reasonably foreseeable future actions in the area. The proposed NRC approval of the LTP, when combined with known effects on resource areas at the site, are not anticipated to result in any cumulative impacts at the site.

Mitigation Measures

As a result of NRC's review of the LTP, the NRC has added license conditions to the licensee's Part 50 license. The license conditions concern: (1) The procedure for any changes to the LTP after approval by the NRC, and (2) the analysis of groundwater prior to release of any survey areas. These license conditions will ensure that there are no significant adverse effects on the adequacy of the DCGLs or the final status survey after approval of the LTP. The license conditions are described further in the NRC's safety evaluation for the amendment that approves the LTP (Reference NRC, 2002).

The licensee is taking mitigative measures to minimize adverse effects on the potential historic and cultural resources present at the site. These mitigative measures are described in the above section on nonradiological impacts.

Conclusions

NRC believes that the approval of the LTP will not cause any significant impacts on the human environment and is protective of human health. Adverse effects were identified for historical and cultural resources, but these impacts will be mitigated by the licensee, as described in the above section on nonradiological impacts. Environmental impacts caused by site activity after NRC has terminated the HNP license would be evaluated, if necessary, by either the State of Connecticut or other agencies responsible for overseeing or regulating the specific future activity.

Agencies and Persons Consulted

The NRC staff has prepared this EA with input from the State of Connecticut's Historic Preservation Officer, by letter dated January 8, 2001, and the U.S. Fish and Wildlife Service, by letter dated January 25, 2001.

In its letter, the State of Connecticut's Historic Preservation Office noted that the HNP possesses historic and technological significance and is eligible for the National Register of Historic places. It further notes that the lands associated with the HNP possess high sensitivity for prehistoric and historic archaeological resources, and these resources harbor a strong potential for being eligible for the National Register. The State Historic Preservation Office believes that decommissioning and dismantling of the HNP represent adverse effects upon Connecticut's cultural heritage and has recommended three mitigative measures, which are described in the above section on nonradiological impacts.

The U.S. Fish and Wildlife Service indicated, in its letter, that on the basis of current information, no Federally or proposed threatened or endangered species under U.S. Fish and Wildlife Service jurisdiction are known to occur in the site project area.

The NRC staff provided a draft of this EA to the State of Connecticut for review. In response, the Connecticut Department of Environmental Protection provided input related to ecological resources, surface water, and groundwater (Reference Wilds, 2002). The EA was revised to reflect the State's input where appropriate.

The U.S. Environmental Protection Agency provided comments on the draft EA to the NRC staff (Reference Rosenstein, 2002). The comments were related to a range of topics, including site characterization and decommissioning impacts. The EA was revised to reflect the EPA's comments where appropriate.

The licensee submitted comments related to clarification of the water resources and historical resources sections (Reference Fetherston, 2002). The EA was revised to reflect the licensee's comments where appropriate.

In accordance with its stated policy, on January 3, 2001, the NRC staff consulted by e-mail with the Connecticut State Official, Dr. Michael Firsick, of the Connecticut Department of Environmental Protection, regarding the environmental impact of the proposed action. In the e-mail response dated October 4, 2002, the State official had no further comments (ADAMS Accession No. ML022840536).

Alternatives, Including the Proposed Action

Proposed Action

The proposed action is NRC approval of the HNP's LTP, which contains the radiation release criteria (i.e., the DCGLs), and the description of the final status survey plan required by NRC. NRC review and approval of the LTP will verify that the remainder of the decommissioning activities will be performed in accordance with NRC regulations.

No Action

NRC considered the no-action alternative relative to the licensee's request for approval of the LTP. Under the no-action alternative, NRC would not approve the LTP and therefore would not be able to terminate the license. This alternative is in conflict with NRC's regulations in 10 CFR 50.82, which states that an LTP will be approved if it has been determined that the remainder of the decommissioning activities will be performed in accordance with NRC regulations, are not detrimental to the health and safety of the public, and do not have a significant effect on the quality of the environment. Therefore, the no-action alternative is not considered to be reasonable and is not analyzed further in this EA. Also, the no-action alternative would result in no change in current environmental impacts.

Therefore, the environmental impacts of the proposed action and the alternative action are similar.

Alternative Use of Resources

This action does not involve the use of any resources not previously considered in the Final Environmental Statement for the Haddam Neck Plant or the Generic Environmental Impact Statement on Decommissioning of Nuclear Facilities.

Finding of No Significant Impact

NRC has prepared an EA related to the issuance of a license amendment to Facility Operating License No. DPR-61, approving the LTP. On the basis of this EA and the mitigative measures described above, NRC has concluded that there are no significant environmental impacts and the license amendment does not warrant the preparation of an Environmental Impact Statement. Accordingly, it has been determined that a Finding of No Significant Impact is appropriate.

For further details with respect to the proposed action, see the licensee's letters dated July 7, 2000, January 11, June 14, July 31, August 15, August 22, September 6, September 7, 2001, and May 9, June 26, and August 15 and 20 and October 10, 2002. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff at 1-800-397-4209, or 301-415-4737, or by e-mail at pdr@nrc.gov.

Dated at Rockville, Maryland, this 28th day of October 2002.
For the Nuclear Regulatory Commission.
Stephen Dembek,
Chief, Section 2, Project Directorate IV, Division of Licensing Project Management, Office of Nuclear Reactor Regulation.

Attachment to “Connecticut Yankee Atomic Power Company Environmental Assessment and Finding of No Significant Impact”

References for the Environment Assessment and Finding of No Significant Impact

Amaral, M., 2001, letter from Amaral (U.S. Department of the Interior, Fish and Wildlife Service, New England Field Office, Concord, N.H.) to C.E. Abrams (U.S. Nuclear Regulatory Commission, Washington, D.C.), January 2001. (Amaral, 2001)

Connecticut Yankee Atomic Power Company, 1997, Decommissioning Environmental Review, Haddam Neck Plant, East Hampton, Conn., August 1997. (CYAPCO, 1997)

Connecticut Yankee Atomic Power Company, 2000, Haddam Neck License Termination Plan, Attachment 1, Haddam Neck Plant, East Hampton, Conn., July 7, 2000. (CYAPCO 2000)

Connecticut Yankee Atomic Power Company, 2001a, June 2001 Quarterly Groundwater Monitoring Report, Haddam Neck Plant, Haddam, Conn., November 2001 (CYAPCO 2001a)

Connecticut Yankee Atomic Power Company, 2001b, Response to the Request for Additional Information (RAI) Regarding the Haddam Neck Plant License Termination Plant (TAC NO. MA9791), CY-01-084, Haddam Neck Plant, Conn., submitted to U.S. Nuclear Regulatory Commission, Document Control Desk, Washington, D.C., August 22, 2001. (CYAPCO, 2001b)

Connecticut Yankee Atomic Power Company, 2002a, Phase 2 Hydrogeologic Investigation Work Plan, Haddam Neck Plant, May 2002. (CYAPCO, 2002a)

Connecticut Yankee Atomic Power Company 2002b, Haddam Neck License Termination Plan, Revision 1, Haddam Neck Plant, East Hampton, Conn., August 20, 2002. (CYAPCO, 2002b)

Connecticut Yankee Atomic Power Company, 2002b, Haddam Neck License Termination Plan, Revision 1a, Haddam Neck Plant, East Hampton, Conn., October 10, 2002. (CYAPCO, 2002c)

Fetherston, N.W., 2002, letter from Fetherston (Site Manager, CYAPCO, East Hampton, Conn.) to U.S. Nuclear Regulatory Commission, Washington, D.C., June 19, 2002. (Fetherston, 2002)

Maddox, D., 1998, letter from Maddox (Deputy State Historic Preservation Officer, Connecticut Historical Commission, Hartford, Conn.) to J. Borne (Northeast Utilities Service Company, Hartford, Conn.), June 1, 1998. (Maddox, 1998)

Maddox, D., 2001, letter from Maddox (Deputy State Historic Preservation Officer, Connecticut Historical Commission, Hartford, Conn.) C.E. Abrams (Office of Nuclear Material Safety and Safeguards, Nuclear Regulatory Commission, Washington, D.C.), January 8, 2001. (Maddox, 2001)

Malcolm Pirnie, Inc., 1999, Groundwater Monitoring Report, Connecticut Yankee Atomic Power Station, Haddam Neck, Connecticut, Final Report, Malcolm Pirnie, Inc., Middletown, Conn., September 1999. (Malcolm Pirnie, 1999)

McKay, D.M., 1997, letter from McKay (Department of Environmental Protection, Natural Resources Center, Hartford, Conn.) to P. Jacobson (Northeast Utilities Service Company, Hartford, Conn.) January 6, 1997. (McKay, 1997)

Rosenstein, M., 2002, letter from Rosenstein (U.S. Environmental Protection Agency, Region 1, Boston, MA) to J. Donoghue (Office of Nuclear Reactor Regulation, Nuclear Regulatory Commission, Washington, D.C.), June 24, 2002. (Rosenstein, 2002)

U.S. Atomic Energy Commission, 1973, Final Environmental Statement, Haddam Neck (Connecticut Yankee) Nuclear Power Plant, Connecticut Yankee Atomic Power Company, Docket No. 50-2123, Directorate of Licensing, Washington, D.C., October 1973. (USAEC, 1973)

U.S. Nuclear Regulatory Commission, 1988, Final Generic Environmental Impact Statement on the Decommissioning of Nuclear Facilities, NUREG-0586, Office of Nuclear Regulatory Research, Washington D.C. (NRC, 1988)

U.S. Nuclear Regulatory Commission, 1997, Final Generic Environmental Impact Statement in Support of Rulemaking on Radiological Criteria for License Termination of NRC-Licensed Nuclear Facilities, NUREG-1496; Office of Nuclear Regulatory Research, Washington, D.C. (GEIS, 1997)

U.S. Nuclear Regulatory Commission, 2001, Generic Environmental Impact Statement on the Decommissioning of Nuclear Facilities; Draft Supplement Dealing with Decommissioning of Nuclear Power Reactors, NUREG-0586 Supplement 1, Office of Nuclear Reactor Regulation, Washington, D.C. (NRC, 20901)

U.S. Nuclear Regulatory Commission, 2002, Safety Evaluation Related to Amendment to Facility Operating License No. DPR-61, Connecticut Yankee Atomic Power Company, Haddam Neck Plant, Docket No. 50-213, Office of Nuclear Material Safety and Safeguards, Washington, D.C., to be issued in November 2002. (NRC, 2002)

Wilds, E., 2002, letter from Wilds (Department of Environmental Protection, Hartford, Conn.) to J.E. Donoghue (U.S. Nuclear Regulatory Commission, Washington, D.C.), June 3, 2002. (Wilds, 2002)

[FR Doc. 02-28014 Filed 11-1-02; 8:45 am]

BILLING CODE 7590-01-P